FEDERAL ELECTION COMMISSION

Sunshine Act Notices

Date and Time: Thursday, April 16, 2009, at 10 a.m.

Place: 999 E Street, NW., Washington, DC (Ninth Floor).

Status: This meeting will be open to the public.

Items To Be Discussed

Correction and Approval of Minutes.

Draft Advisory Opinion 2009-02: The True Patriot Network, LLC, by Judith L. Corley, Esquire.

Draft Advisory Opinion 2009-03: IntercontinentalExchange, Inc., by Andrew J. Surdykowski, Esquire.

Directive 54—Employee Transit Benefit Program.

Management and Administrative Matters.

Individuals who plan to attend and require special assistance, such as sign language interpretation or other reasonable accommodations, should contact Mary Dove, Commission Secretary, at (202) 694-1040, at least 72 hours prior to the hearing date.

FOR FURTHER INFORMATION CONTACT: Judith Ingram, Press Officer; Telephone: (202) 694-1220.

Mary W. Dove,
Secretary of the Commission.

[FR Doc. E9-8529 Filed 4-14-09; 8:45 am]

BILLING CODE 6715-01-M